DEPARTMENT OF JUSTICE

Office of Justice Programs

[OJP (OJJDP) Docket No. 1644]

Hearing of the Advisory Committee of the Attorney General's Task Force on American Indian/Alaska Native Children Exposed to Violence

AGENCY: Office of Juvenile Justice and Delinquency Prevention (OJJDP), Justice.

ACTION: Notice of hearing.

SUMMARY: This is an announcement of the second hearing of the Advisory Committee of the Attorney General's Task Force on American Indian/Alaska Native Children Exposed to Violence (hereafter referred to as the AIAN Advisory Committee). The AIAN Advisory Committee is chartered to provide the Attorney General with valuable advice in the areas of American Indian/Alaska Native children's exposure to violence for the purpose of addressing the epidemic levels of exposure to violence faced by tribal youth. Based on the testimony at four public hearings, on comprehensive research, and on extensive input from experts, advocates, and impacted families and tribal communities nationwide, the AIAN Advisory Committee will issue a final report to the Attorney General presenting its findings and comprehensive policy recommendations in the fall of 2014.

DATES: This second hearing will take place on Tuesday, February 11, 2014 (full-day session), beginning at 8:30 a.m. A post-hearing debrief (full-day session) will take place on Wednesday, February 12, 2014, beginning at 9:00 a.m.

ADDRESSES: The hearing and post-hearing debrief will take place at the Salt River Talking Stick Hotel, 9800 E. Indian Bend Rd., Scottsdale, AZ 85256 (866) 877-9897.

FOR FURTHER INFORMATION CONTACT: Jim Antal, AIAN Advisory Committee Designated Federal Officer (DFO) and Deputy Associate Administrator, Youth Development, Prevention and Safety Division, Office of Juvenile Justice & Delinquency Prevention, Office of Justice Programs, 810 7th Street NW., Washington, DC 20531. Phone: (202) 514-1289 [note: This is not a toll-free number]; email: james.antal@usdoj.gov.

SUPPLEMENTARY INFORMATION: This hearing is being convened to provide information to the AIAN Advisory Committee about the issue of American Indian/Alaska Native children's exposure to violence. The focus for this second hearing will be on the juvenile systems' (Tribal, State, Federal) response to American Indian/Alaska Native children exposed to violence.

The final agenda is subject to adjustment, but it is anticipated that on February 11, 2014, there will be a morning and afternoon session, with a break for lunch. The morning session will likely include welcoming remarks and introductions, and panel presentations from invited guests on topics focused on the juvenile systems' (Tribal, State, Federal) response to American Indian/Alaska Native children exposed to violence. The afternoon session will likely include presentations from witnesses invited to brief the AIAN Advisory Committee on measuring and describing American Indian/Alaska Native children's exposure to violence and existing programs that attempt to address this issue.

Scheduled oral public testimony will likely be offered at specific times during both the morning and afternoon hearing sessions. Additionally, oral public testimony may occur during the open microphone session, which will likely occur just prior to the conclusion of the hearing. While on-site registration will also be provided, those wishing to provide oral public testimony are encouraged to register through the registration link at: www.justice.gov/defendingchildhood in advance of the meeting.

While not required, those wishing to attend the February 11th hearing are also encouraged to register through the registration link at: www.justice.gov/defendingchildhood in advance of the hearing.

Those wishing to provide written testimony for this hearing should send their written testimony to testimony@tlpi.org. Written testimony will also be accepted onsite February 11, 2014 at the registration desk.

On February 12th, there will be a post-hearing debrief session that will include a review of material presented during the previous day and planning for subsequent hearings. While both meetings are open to the public, the debriefing session will not have an opportunity for public comment.

Anyone requiring special accommodations should notify Mr. Antal at james.antal@usdoj.gov at least seven (7) days in advance of the meeting.

Jim Antal,
Deputy Associate Administrator, Youth Development, Prevention and Safety, Division and AI/AN Advisory Committee Designated Federal Officer, Office of Juvenile Justice and Delinquency Prevention, Office of Justice Programs.

[FR Doc. 2014-01139 Filed 1-21-14; 8:45 am]

BILLING CODE 4410-18-P